DEPARTMENT OF TRANSPORTATION

Federal Highway Administration

[Docket No. FHWA-2025-0334]

Agency Information Collection Activities: Notice of Request for Reinstatement of a Previously Approved Information Collection

AGENCY: Federal Highway Administration (FHWA), DOT.

ACTION: Notice of request for reinstatement of a previously approved information collection.

SUMMARY: The FHWA has forwarded the information collection request described in this notice to the Office of Management and Budget (OMB) to reinstate a previously approved information collection. We are required to publish this notice in the Federal Register by the Paperwork Reduction Act of 1995.

DATES: Please submit comments by December 19, 2025.

ADDRESSES: You may submit comments identified by DOT Docket ID Number 0334 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Michelle Hilary, (860) 803-6481, Office of Project Development and Environmental Review, Federal Highway Administration, Department of Transportation, 1200 New Jersey Avenue SE, Washington, DC 20590. Office hours are from 7 a.m. to 4 p.m., Monday through Friday, except Federal holidays.

SUPPLEMENTARY INFORMATION: We published a Federal Register Notice with a 60-day public comment period on this information collection on August 4, 2025, at [90 FR 36517]. The notice received 9 comments. The comments and FHWA's responses are below:

Overall, the comments expressed strong support for the Wildlife Crossings Pilot Program (WCPP) and implementation of wildlife crossings in general, emphasizing protection of both animals and drivers, reducing collisions, saving lives, and preserving habitat connectivity. Regarding information collection, one of the State DOTs provided the following recommendations for streamlining the reporting process:

• Use electronic technology for submissions and reporting (e.g., online forms, electronic data uploads) to reduce respondent time and paperwork;

• Leverage existing data and studies (use already collected traffic, crash, and wildlife/habitat data) to avoid duplicate reporting and reduce burden on applicants;

• Minimize reporting requirements to the essentials by prioritizing data that directly supports program oversight and outcomes, and eliminate redundant fields or requests; and

• Streamline and standardize reporting templates and procedures so applicants can complete requirements more quickly and consistently.

FHWA is committed to improving safety for the traveling public through the reduction of WVCs. FHWA is open to utilizing technology to the extent possible to reduce the information collection burden for applicants and grantees, allowing for more streamlined information collection and improvements in the project delivery process under the WCPP.

Title: Wildlife Crossings Pilot Program.

OMB Control: 2125-0672.

Background: The WCPP is a competitive grant program established in the Infrastructure Investment and Jobs Act of 2021 (Pub. L. 117-58, November 15, 2021), and codified at 23 U.S.C. 171. The WCPP seeks to fund projects that will reduce wildlife-vehicle collisions and improve habitat connectivity for terrestrial and aquatic species. The FHWA will advertise a Notice of Funding Opportunity for up to $80 million in fiscal year 2026 funds, plus any funds available from prior fiscal years (FY 2022-2025).

Respondents: Approximately 60 Eligible Applicants, which are State departments of transportations, Indian tribes, metropolitan planning organizations, units of local government, regional transportation authorities, special purpose districts or public authorities with a transportation function, or Federal land management agencies (FLMA). For the purpose of the grant agreement stage and project management stage, respondents may also include Eligible Partners, which are a metropolitan organization; a unit of local government; a regional transportation authority; a special purpose district or public authority with a transportation function; an Indian Tribe; an FLMA; a foundation, nongovernmental organization, or institution of higher education; or a Federal, Tribal, regional, or State government entity.

Frequency: Once.

Estimated Average Burden per Response: The burden hours vary depending on the phase of the WCPP. The application phase will take approximately 40 hours per respondent. The grant agreement and project management phase will take approximately 2 hours to complete per phase.

Estimated Total Annual Burden Hours: 2600 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: November 17, 2025.
Jazmyne Lewis,
Information Collection Officer.

[FR Doc. 2025-20297 Filed 11-18-25; 8:45 am]

BILLING CODE 4910-22-P